DEPARTMENT OF DEFENSE

Department of the Navy

Notice of Availability of Finding

AGENCY: Department of the Navy, DoD.

ACTION: Notice.

SUMMARY: Pursuant to Section 102(2)(C) of the National Environmental Policy Act (NEPA) of 1969 and the Council on Environmental Quality regulations (40 CFR parts 1500-1508), implementing procedural provisions of NEPA, and Executive Order (EO) 12114, Environmental Effects Abroad of Major Federal Actions, the Department of the Navy (DON) gives notice that a combined Finding of No Significant Impact (FONSI)/Finding of No Significant Harm (FONSH) has been issued and is available for the January 2009 USS Dwight D. Eisenhower Carrier Strike Group Composite Training Exercise (IKE CSG COMPTUEX).

DATES: The effective date of the finding is December 18, 2008.

ADDRESSES: Electronic copies of the combined FONSI/FONSH are available for public viewing or downloading at http://www.navydocuments.com.

FOR FURTHER INFORMATION CONTACT: Commander, Second Fleet Public Affairs, Commander Phillips; telephone: 757-443-9822 or http://www.navydocuments.com.

SUPPLEMENTARY INFORMATION: The IKE CSG COMPTUEX is a major U.S Navy Atlantic Fleet training exercise proposed to occur in January 2009. The purpose of this exercise is to certify U.S. Naval forces as combat-ready. Specific training activities associated with the IKE CSG COMPTUEX include air-to-ground (ATG) bombing, Combat Search and Rescue (CSAR), Maritime Operations, Inert Naval Gunfire, Fast Attack Craft/Fast Inshore Attack Craft (FAC/FIAC), and Anti-Submarine Warfare (ASW).

The FONSI is based on analysis contained in a Comprehensive Environmental Assessment (EA) addressing potential impacts associated with land-based training for Major Atlantic Fleet Training Exercises on the East and Gulf Coasts of the U.S. (February 2006). The FONSH is based on environmental analysis contained in a Comprehensive Overseas Environmental Assessment (OEA) (February 2006) and a Supplement to the Comprehensive OEA (SOEA) for environmental impacts associated with U.S. Navy major exercise training in offshore operating areas along the East and Gulf Coasts of the U.S. (April 2008). Environmental concerns addressed in the EA include land use, community facilities, coastal zone management, socioeconomics, cultural resources, airspace, air quality, noise, geology, soils, water resources, biological resources, munitions and hazardous materials management, and safety. Both the EA and OEA addressed potential impacts to the ocean physical environment, fish and essential fish habitat, sea turtles, marine mammals, seabirds, migratory birds, endangered and threatened species, socioeconomics, and cultural resources. The SOEA analysis included the use of MFA sonar during the January 2009 IKE CSG COMPTUEX.

This action includes mitigation measures to reduce impacts to a level that is less than significant. In accordance with the Major Atlantic Fleet Training Exercise EA, OEA and SOEA, and an evaluation of the nature, scope, and intensity of the proposed action, the Navy finds the January 2009 IKE CSG COMPTUEX will not significantly impact or harm the environment. Therefore, an Environmental Impact Statement or Overseas Environmental Impact Statement is not required.

Dated: December 19, 2008.
T. M. Cruz,
Lieutenant Commander, Office of the Judge Advocate General, U.S. Navy, Federal Register Liaison Officer.

[FR Doc. E8-30671 Filed 12-23-08; 8:45 am]

BILLING CODE 3810-FF-P